DEPARTMENT OF HOUSING AND URBAN DEVELOPMENT

[Docket No. FR-5752-N-24]

30-Day Notice of Proposed Information Collection: Certification of Domestic Violence, Dating Violence, Sexual Assault, or Stalking

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: March 31, 2014.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street SW., Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A. The Federal Register notice that solicited public comment on the information collection for a period of 60 days was published on December 26, 2013.

A. Overview of Information Collection

Title of Information Collection: Certification of Domestic Violence, Dating Violence, Sexual Assault, or Stalking.

OMB Approval Number: 2577-0249.

Type of Request: Revision of a currently approved collection.

Form Number: HUD-50066.

Description of the need for the information and proposed use: This is a request for information collection that may be used in response to an incident or incidents of actual or threatened domestic violence, dating violence, sexual assault or stalking that may affect an individual's participation in the Section 8 or public housing programs.

When an individual presents a PHA, owner, or manager with a claim for protections under the Violence Against Women Act Reauthorization Act of 2013 (VAWA 2013), the PHA, owner, or manager may (but is not required to) request that the individual complete, sign and submit within 14 business days of the request, a HUD approved certification form, or alternate documentation as described on the certification form, to document the domestic violence, dating violence, sexual assault, or stalking. The PHA's, owner's, or manager's request for documentation must be made in writing. On the certification form, the individual certifies that s/he is a victim of domestic violence, dating violence, sexual assault or stalking, and that the incident or incidences in question are bona fide incidences of such actual or threatened abuse. On the certification form, the individual must provide the name of the perpetrator only if the name of the perpetrator is safe to provide, and is known to the victim. PHAs are instructed that the delivery of the certification form to the tenant in response to an incident(s) via mail may place the victim at risk, e.g., the abuser may monitor the mail; consequently, PHAs, owners and management agents may require that the tenant come into the office to pick up the certification form. PHAs and owners are also encouraged to work with tenants to make delivery arrangements that do not place the tenant at risk. If the PHA, owner, or manager provides the individual with a written request for documentation of the abuse, and the individual does not provide the certification form, or alternate documentation as described on the certification form, within 14 business days from the date of receipt of the PHA's, owner's, or manager's written request (or after any extension of that date provided by the PHA, owner or manager), the Victim cannot be assured s/he will receive VAWA protections. Note, On August 6, 2013, HUD published in the Federal Register (Volume 78, Number 151, 47717) a notice describing the impacts of the VAWA 2013 on HUD programs. The notice provided an overview of the key ways in which VAWA 2013 would enhance existing VAWA protections for victims of domestic violence, dating violence and stalking in HUD's public housing and Section 8 Housing Choice Voucher (HCV) programs, listed the additional HUD programs that would now be covered by the statute, explained that VAWA protections would be extended to victims of sexual assault, and advised of HUD's plans to issue rules and/or guidance on the new law at a later date. HUD also requested public comment on certain topics that VAWA 2013 left to HUD's discretion. Included in that request was how HUD should adapt VAWA certification forms (HUD-50066 and HUD-91066) to document abuse covered by VAWA 2013 to include the newly covered programs. The current certification form HUD-50066 expires on February 28, 2014. HUD determined that the form HUD-50066 should be updated to include only the items required by VAWA 2013. HUD intends to issue at a later date a new form covering all HUD covered programs that conforms to VAWA 2013 and considers comments received on the notice (comments posted under docket number HUD-2013-0074 on www.regulations.gov). The new form would replace HUD-50066.

Respondents (i.e. affected public): Public Housing Authorities (PHAs), Owners, and Management Agents, participating in the Public Housing and Section 8 Housing Choice Voucher programs.

Estimated Number of Respondents: 200.

Estimated Number of Responses: 200.

Frequency of Response: Once.

Average Hours per Response: 60 minutes per applicant.

Total Estimated Burdens: 200.

B. Solicitation of Public Comment

This notice is soliciting comments from members of the public and affected parties concerning the collection of information described in Section A on the following:

(1) Whether the proposed collection of information is necessary for the proper performance of the functions of the agency, including whether the information will have practical utility; (2) The accuracy of the agency's estimate of the burden of the proposed collection of information; (3) Ways to enhance the quality, utility, and clarity of the information to be collected; and (4) Ways to minimize the burden of the collection of information on those who are to respond; including through the use of appropriate automated collection techniques or other forms of information technology, e.g., permitting electronic submission of responses. HUD encourages interested parties to submit comment in response to these questions.

Authority: Section 3507 of the Paperwork Reduction Act of 1995, 44 U.S.C. Chapters 35.

Dated: February 21, 2014.
Colette Pollard,
Department Reports Management Officer, Office of the Chief Information Officer.

[FR Doc. 2014-04485 Filed 2-27-14; 8:45 am]

BILLING CODE 4210-67-P